DEPARTMENT OF EDUCATION

Notice Inviting Comments on Priorities To Be Proposed to the National Board for Education Sciences of the Institute of Education Sciences

AGENCY: Institute of Education Sciences, Department of Education.

ACTION: Notice inviting comments on priorities to be proposed to the National Board for Education Sciences of the Institute of Education Sciences.

SUMMARY: The Director of the Institute of Education Sciences (Institute) has developed priorities to guide the work of the Institute. The National Board for Education Sciences (Board) must approve the priorities, but before proposing the priorities to the Board, the Director must seek public comment on the priorities. The public comments will be provided to the Board prior to its action on the priorities.

DATES: We must receive your comments on or before August 16, 2005.

ADDRESSES: Address all comments about these proposed priorities to Elizabeth Payer, Institute of Education Sciences, U.S. Department of Education, 555 New Jersey Avenue, NW., room 602c, Washington, DC 20208. If you prefer to send your comments through the Internet, use the following address: elizabeth.payer@ed.gov. We encourage you to submit comments electronically to ensure timely receipt. We also ask that you include:

(1) “Comment on Proposed Priorities of the Institute” in the subject line of your e-mail message;

(2) Your name, title, organization, postal address, telephone number, and the full text of your comments in your e-mail message; and

(3) As an attachment to your e-mail message, the full text of your comments without your name, title, organization and contact information, so that we may more easily compile all of the comments we receive for review by members of the National Board for Education Sciences.

FOR FURTHER INFORMATION CONTACT: Elizabeth Payer. Telephone: (202) 219-1310.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

Invitation To Comment

We invite you to submit comments regarding these proposed priorities. To ensure that your comments have maximum effect in developing the final priorities, we urge you to identify clearly the specific proposed priority that each comment addresses.

During and after the comment period, you may inspect all public comments about these proposed priorities in room 602c, 555 New Jersey Avenue, NW., Washington, DC, between the hours of 8:30 a.m. and 4 p.m., Eastern time, Monday through Friday of each week except Federal holidays.

Assistance to Individuals With Disabilities in Reviewing the Record

On request, we will supply an appropriate aid, such as a reader or print magnifier, to an individual with a disability who needs assistance to review the comments or other documents in the public record for these proposed priorities. If you want to schedule an appointment for this type of aid, please contact the person listed under FOR FURTHER INFORMATION CONTACT.

SUPPLEMENTARY INFORMATION:

Background

The Education Sciences Reform Act of 2002 (20 U.S.C. 9516) requires that the Director of the Institute propose to the Board priorities for the Institute. The Director is to identify topics that require long term research and topics that are focused on understanding and solving education problems and issues, including those associated with the goals and requirements established in the Individuals with Disabilities Education Act, as amended by the Individuals with Disabilities Education Improvement Act of 2004; the Elementary and Secondary Education Act of 1965, as amended by the No Child Left Behind Act of 2001; and the Higher Education Act of 1965, as amended, such as closing the achievement gap; ensuring that all children have the ability to obtain a high-quality education and reach, at a minimum, proficiency on State standards and assessments; and ensuring access to, and opportunities for, postsecondary education.

Before submitting proposed priorities to the Board, the Director must make the priorities available to the public for comment for not less than 60 days. Each comment submitted must be provided to the Board.

The Director anticipates submitting to the Board proposed priorities for the Institute at its next meeting to be held on September 6-7, 2005.

The Board must approve or disapprove the priorities for the Institute proposed by the Director, including any necessary revision of the priorities. Approved priorities are to be transmitted to appropriate congressional committees by the Board.

The Director will publish in the Federal Register the Institute's plan for addressing the priorities and make it available for comment for not less than 60 days.

Proposed Priorities

The long-term goals associated with the Institute's priorities are threefold: First, to develop or identify a substantial number of programs, practices, policies, and approaches that are effective in enhancing academic achievement, and that are widely deployed and well-implemented; second, to identify what does not work and what is problematic, and thereby encourage innovation and further research; and third, to develop dissemination strategies and sources of information on the results of education research that are routinely used by policymakers, educators, and the general public when making education decisions. By providing an independent, scientific base of evidence, the Institute aims to further the transformation of education into an evidence-based field, and thereby enable the nation to educate all of its students in an effective manner.

In pursuit of its goals, the Institute will support research, conduct evaluations, and compile statistics in education that conform to rigorous scientific standards, and will disseminate and promote the use of research in forms and through activities that are objective, free of bias in their interpretation, and readily accessible. Given these goals, we invite you to submit comments regarding the priorities proposed here.

The Institute's over-arching priority is research that contributes to improved academic achievement for all students, and particularly for those students whose education prospects are hindered by inadequate education services and conditions associated with poverty, race/ethnicity, limited English proficiency, disability, and family circumstance.

With academic achievement as the major priority, the Institute will focus on outcomes that differ by periods of education. In the infancy and preschool period, the outcomes of interest will be those that enhance readiness for schooling, for example, language skills. In kindergarten through 12th grade, the core academic outcomes of reading and writing, mathematics, and science will be emphasized, as will discipline and social interactions within schools that support learning. At the post-secondary level, the focus will be on enrollment in and completion of programs that prepare students for rewarding and constructive careers. The same outcomes are emphasized for students with disabilities across each of these periods. The acquisition of basic skills by adults with low levels of education is also of interest, as is the learning of skills that support independent living for individuals with significant cognitive disabilities.

In conducting research on factors that affect the academic outcomes on which it focuses, the Institute will concentrate on conditions that are within the control of the education system, with the aim of identifying, developing, and validating effective education programs, practices, policies, and approaches. Conditions that are of greatest interest to the Institute are in the areas of curriculum, instruction, assessment, the quality of the teaching and administrative workforce, and the systems and policies that affect these factors and their interrelationships, such as accountability systems and education options for parents.

The successful pursuit of the Institute's goals and priorities requires increased capacity to produce and use rigorous education research. To that end, the Institute's priorities include support of doctoral and post-doctoral training in the education sciences, development and refinement of education research methods, and expansion for research purposes of longitudinal databases that link individual student data to information on conditions that can affect student outcomes, such as curriculum. To assure increased capacity to use and apply the results of research, the Institute will support systematic reviews of evidence, enhanced access to findings through advanced electronic systems, and outreach to parents, educators, students, policymakers, and the general public.

These are not exclusive or absolute priorities: To the extent that resources permit and the Institute's priorities are being adequately addressed, the Institute may address other important education issues.

Intergovernmental Review

This program is not subject to Executive Order 12372 and the regulations in 34 CFR part 79.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text [Word and PDF] at the following site: http://www.ed.gov/about/offices/list/ies/news.html.

Note: The official version of this document is the document published in the Federal Register. Free Internet access to the official edition of the Federal Register and the Code of Federal Regulations is available on GPO Access at: http://www.gpoaccess.gov/nara/index.html.

(Catalog of Federal Domestic Assistance number does not apply.)

Program Authority: 20 U.S.C. 9501 et seq.

Dated: June 13, 2005.
Grover J. Whitehurst,
Director, Institute of Education Sciences.

[FR Doc. 05-11921 Filed 6-15-05; 8:45 am]

BILLING CODE 4001-01-P